DEPARTMENT OF THE INTERIOR

Bureau of Land Management

[LLCA930000; CACA 7817]

Public Land Order No. 7736; Partial Revocation of the Bureau of Reclamation Order Dated February 19, 1952; California

AGENCY: Bureau of Land Management.

ACTION: Correction.

SUMMARY: The Bureau of Land Management published a document in the Federal Register of September 23, 2009, which inadvertently omitted words twice in the order.

FOR FURTHER INFORMATION CONTACT: Duane Marti, 916-978-4675.

Correction

In the Federal Register of September 23, 2009, in FR Doc. E9-22846, (1) on page 48597, at the bottom of the third column, the Subject Heading should read “Public Land Order No. 7736, Partial Revocation of the Bureau of Reclamation Order Dated February 19, 1952, and Concurred in by the Bureau of Land Management on February 26, 1952; California”; and (2) on page 48598, at the middle of the first column, “1. The Bureau of Reclamation Order dated February 19, 1952, is hereby revoked insofar as it affects the following described land:” should read “1. The Bureau of Reclamation Order dated February 19, 1952, and concurred in by the Bureau of Land Management on February 26, 1952, is hereby revoked insofar as it affects the following described land:”

Karla D. Norris,
Associate Deputy State Director, Natural Resources (CA-930).

[FR Doc. 2010-8000 Filed 4-7-10; 8:45 am]

BILLING CODE 4310-11-P